DEPARTMENT OF THE INTERIOR

Office of the Secretary

[223D0102DM, DS6CS00000, DLSN00000.000000. DX6CS25; Docket No. DOI-2021-0016]

Request for Information To Inform Interagency Efforts To Develop the American Conservation and Stewardship Atlas

AGENCY: Department of the Interior.

ACTION: Request for information and notice of public listening sessions.

SUMMARY: The Department of the Interior (Department), on behalf of an interagency working group co-led with the Council on Environmental Quality (CEQ), Department of Agriculture (USDA), and Department of Commerce (DOC) through National Oceanic and Atmospheric Administration (NOAA), is soliciting comments to inform how the American Conservation and Stewardship Atlas (Atlas) can best serve as a useful tool for the public and how it should reflect a continuum of conservation actions in the America the Beautiful initiative, recognizing that many uses of lands and waters can be consistent with the long-term health of natural systems and contribute to addressing climate change and environmental injustices. The input received will be used to develop the Atlas.

DATES: Interested persons are invited to submit comments by 11:59 p.m. on March 7, 2022.

The interagency group will host virtual public listening sessions at the dates and times below.

• Thursday, January 13, 2022, 2:00-3:30 p.m. ET

• Wednesday, January 19, 2022, 6:00-7:30 p.m. ET

• Friday, January 21, 2022, 11:00 a.m.-12:30 p.m. ET

Specific details will be posted on the Department's America the Beautiful web page on January 4, 2022. Listening sessions may end before the time noted above if all those participating have completed their oral comments.

ADDRESSES: Comments must be submitted through https://www.regulations.gov and will be available for public viewing and inspection. In the Search box, enter the docket number presented above in the document headings. For best results, do not copy and paste the number; instead, type the docket number into the Search box using hyphens. Then, click on the Search button. You may submit a comment by clicking on “Comment.”

FOR FURTHER INFORMATION CONTACT: Eve Barnett, Policy and Intergovernmental Affairs Analyst, Office of Intergovernmental and External Affairs, Office of the Secretary, Department of the Interior, (202) 208-1923.

SUPPLEMENTARY INFORMATION:

Section 216(a) of Executive Order 14008 established the first-ever national conservation goal, calling for the conservation of “at least 30 percent of U.S. lands and waters by 2030.” In accordance with Executive Order 14008, the Department, USDA, DOC, and CEQ released the Conserving and Restoring America the Beautiful report on May 6, 2021. The report calls for a decade-long national initiative to advance locally led conservation and restoration on public, private, and Tribal lands and waters. It acknowledges—and celebrates—the wide-ranging contributions that diverse conservation efforts can make to the initiative and its goals of tackling climate change, sustaining biodiversity, and increasing equitable access to nature.

The report emphasizes that there is a continuum of conservation in America that aligns with the guiding principles of the initiative. These core principles commit the effort to:

• Pursue a Collaborative and Inclusive Approach to Conservation

• Conserve America's Lands and Waters for the Benefit of All People

• Support Locally Led and Locally Designed Conservation Efforts

• Honor Tribal Sovereignty and Support the Priorities of Tribal Nations

• Pursue Conservation and Restoration Approaches that Create Jobs and Support Healthy Communities

• Honor Private Property Rights and Support the Voluntary Stewardship Efforts of Private Landowners and Fishers

• Use Science as a Guide

• Build on Existing Tools and Strategies with an Emphasis on Flexibility and Adaptive Approaches

The report also outlines the six areas of focus that elected officials, Tribal leaders, and stakeholders lifted up as early opportunities for successful collaboration: Creating more parks and safe outdoor opportunities in nature-deprived communities; supporting Tribally led conservation and restoration priorities; expanding collaborative conservation of fish and wildlife habitats and corridors; increasing access for outdoor recreation; incentivizing and rewarding the voluntary conservation efforts of fishers, ranchers, farmers, and forest owners; and creating jobs by investing in restoration and resilience.

The report specifies that an interagency working group will develop an Atlas through interagency collaboration to develop and track a clear baseline of information on lands and waters that are conserved or restored. The Atlas is intended to be an accessible, updated, and comprehensive tool through which to measure the progress of conservation, stewardship, and restoration efforts in a manner that reflects the goals and principles of the initiative. The interagency group, co-led by the U.S. Geological Survey (USGS) within the Department as well as USDA and NOAA, in partnership with CEQ and other Federal agencies, will develop the Atlas with input from the public, States, Tribal Nations, scientists, and a wide range of stakeholders. While agencies have already received feedback on the America the Beautiful initiative from a broad set of stakeholders, this request for information offers a formal comment period to collect input specific to the development of the Atlas. The group is seeking input from the public on the following:

• Science and Data. What data sources, standards, and technical approaches should be applied to data included in the Atlas to ensure that it is an authoritative and useful tool for the public?

• Conservation as a Continuum. How can the Atlas reflect the meaningful conservation work already underway in America?

○ What stewardship actions should be considered, in addition to permanent protections, to capture a more complete picture of conservation and restoration in America?

○ What are the attributes of lands and waters that should be included in the Atlas? Considerations could include, for example, a clearly defined geographic boundary, status of ecological function, representation of species and habitats, extent of disturbance, expected future risks from climate change or other human stressors, ecosystem connectivity, or durability of management status.

○ How can the Atlas best reflect the contributions of State, local, Tribal, territorial, and private lands?

• Outcomes. How can the Atlas best reflect land and water contributions to biodiversity, climate change mitigation and resilience, and equitable access to nature and its benefits?

Additional information about this project can be found at: https://www.doi.gov/priorities/america-the-beautiful.

Eric Werwa,
Deputy Assistant Secretary—Policy and Environmental Management, Exercising the Delegated Authority of the Assistant Secretary for Policy, Management and Budget.

[FR Doc. 2021-28548 Filed 1-3-22; 8:45 am]

BILLING CODE 4334-63-P